SECURITIES AND EXCHANGE COMMISSION

[File No. 500-1]

Order of Suspension of Trading; in the Matter of Medex, Inc.

January 17, 2013.

It appears to the Securities and Exchange Commission that there is a lack of current and accurate information concerning the securities of Medex, Inc. (“Medex”) because of questions regarding the accuracy of assertions by Medex, and by others, in press releases and other public statements to investors, and in promotional emails, concerning, among other things: (i) The company's operations; and (ii) the company's outstanding shares.

The Commission is of the opinion that the public interest and the protection of investors require a suspension of trading in the securities of the above-listed company.

Therefore, it is ordered, pursuant to Section 12(k) of the Securities Exchange Act of 1934, that trading in the securities of the above-listed company is suspended for the period from 9:30 a.m. EST, on January 17, 2013 through 11:59 p.m. EST, on January 31, 2013.

By the Commission.
Elizabeth M. Murphy,
Secretary.

[FR Doc. 2013-01247 Filed 1-17-13; 11:15 am]

BILLING CODE 8011-01-P